DEPARTMENT OF THE TREASURY

Agency Information Collection Activities; Submission for OMB Review; Comment Request; Voluntary Chemist Certification Program Applications, Notices, and Records

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before December 31, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Tax and Trade Bureau (TTB)

1. Title: Voluntary Chemist Certification Program Applications, Notices, and Records.

OMB Control Number: 1513-NEW.

Type of Review: Request for a new OMB Control Number.

Description: The TTB chemist certification program, established under the authority of section 105(e) of the Federal Alcohol Administration Act (FAA Act; 27 U.S.C. 205(e)) and explained in TTB Procedure 2018-2, is a voluntary program that certifies private industry chemists to analyze alcohol beverages and report the results of specific chemical analyses on alcohol beverages to the governments of importing countries. As a condition of importation, some countries require that their own government laboratories (or laboratories certified by their government) perform these analyses, while other countries allow a person certified by the government of the exporting country to perform the analyses. TTB conducts its chemist certification program as a service to the alcohol beverage industry to facilitate the export of domestic alcohol beverage products. This certification program helps ensure that chemists, enologists, brewers, and technicians generate quality data and have the required proficiencies to conduct chemical analyses associated with exportation of alcohol beverages from the United States. This program includes application and notice requirements, including letterhead applications for certification, submission of the results of qualifying analyses of TTB-supplied alcohol beverage samples, and miscellaneous letterhead applications and notices regarding additional certifications, requests for TTB-affirmed reports of analysis, and notices of changes in employment place or status. Under this program, certified chemists and their laboratories must also maintain usual and customary records regarding all analysis results conducted under the authority of a TTB certificate, and records related to laboratory equipment, quality control policies, procedures and systems, and analyst training and competence.

Form: None.

Affected Public: Businesses or other for-profits.

Estimated Number of Respondents: 310.

Frequency of Response: Annually.

Estimated Total Number of Annual Responses: 310.

Estimated Time per Response: 1.33 hours.

Estimated Total Annual Burden Hours: 412.

Authority: 44 U.S.C. 3501 et seq.

Dated: November 26, 2018.
Spencer W. Clark,
Treasury PRA Clearance Officer.

[FR Doc. 2018-25949 Filed 11-28-18; 8:45 am]

BILLING CODE 4810-31-P